DEPARTMENT OF HEALTH AND HUMAN SERVICES

Centers for Disease Control and Prevention

The National Center for Environmental Health (NCEH); Meeting

The National Center for Environmental Health (NCEH) of the Centers for Disease Control and Prevention (CDC) announces the following meeting.

Name: Current Status of the Vessel Sanitation Program (VSP) and Experience-to-Date with Program Operations—Public meeting between CDC and the cruise ship industry, private sanitation consultants, and other interested parties.

Time and Date: 9 a.m.-4 p.m., Tuesday, March 11, 2003.

Place: Auditorium, Port Everglades Administration Building, 1850 Eller Drive, Ft. Lauderdale, Florida 33316.

Status: Open to the public, limited by the space available. The meeting room accommodates approximately 100 people.

Purpose: During the past 15 years, as part of the restructured VSP, CDC has conducted a series of public meetings with members of the cruise ship industry, private sanitation consultants, and other interested parties.

This meeting is a continuation of that series of public meetings to discuss the current status of the VSP and experience-to-date with program operations.

Matters to be Discussed: Agenda items will include a VSP update, 2002 program review, update on the implementation of the VSP Operations Manual 2000, update on disease surveillance and 2002 outbreak investigations, and VSP training seminars.

For a period of 15 days following the meeting, through March 26, 2003, the official record of the meeting will remain open so that additional materials or comments may be submitted to be made part of the record of the meeting.

Advanced registration for the meeting is encouraged. Please provide the following information: Name, title, company name, mailing address, telephone number, facsimile number, and E-mail address to Angela Storms (770) 488-3141, or e-mail: Astorms@cdc.gov.

FOR FURTHER INFORMATION CONTACT: David Forney, Chief, VSP, NCEH, CDC, 4770 Buford Highway, NE, M/S F-16, Atlanta, Georgia 30341-3724, telephone (770) 488-7333, e-mail: Dforney@cdc.gov.

The Director, Management Analysis and Services Office, has been delegated the authority to sign Federal Register notices pertaining to announcements of meetings and other committee management activities, for both the Centers for Disease Control and Prevention and the Agency for Toxic Substances and Disease Registry.

Dated: January 30, 2003.
Joseph E. Salter,
Acting Director, Management Analysis and Services Office, Centers for Disease Control and Prevention.

[FR Doc. 03-2650 Filed 2-4-03; 8:45 am]

BILLING CODE 4163-18-P